DEPARTMENT OF HEALTH AND HUMAN SERVICES

President's Advisory Council on Faith-Based and Neighborhood Partnerships

AGENCY: President's Advisory Council on Faith-based and Neighborhood Partnerships, Department of Health and Human Services.

ACTION: Announcement of Meeting.

SUMMARY: In accordance with section 10(a)(2) of the Federal Advisory Committee Act (Pub. L. 92-463), the President's Advisory Council on Faith-based and Neighborhood Partnerships announces a meeting. The meeting is titled President's Advisory Council on Faith-based and Neighborhood Partnerships Council Meetings.

DATES: The meeting dates are:

1. February 25, 2010, Thursday, 4 p.m. to 6 p.m., Eastern Standard Time (EST).

2. February 26, 2010, Friday, 2 p.m. to 4 p.m., Eastern Standard Time (EST).

ADDRESSES: Meetings will be held via conference call. The dial-in number for both call meeting dates is: 800-857-8628, Passcode 9789555.

FOR FURTHER INFORMATION CONTACT: Please contact Mara Vanderslice to RSVP for the conference calls, and any additional information about the Advisory Council conference calls at mvanderslice@who.eop.gov.

SUPPLEMENTARY INFORMATION:

Purpose: The Council brings together leaders and experts in fields related to the work of faith-based and neighborhood organizations in order to: Identify best practices and successful modes of delivering social services; evaluate the need for improvements in the implementation and coordination of public policies relating to faith-based and other neighborhood organizations; and make recommendations for changes in policies, programs, and practices.

Status: Open to the public, limited only by lines available.

Agenda: Topics to be discussed include deliberations on reports from the Council's six Taskforces: Economic Recovery and Domestic Poverty, Reform of the Office, Environment and Climate Change, Inter-Religious Cooperation, Fatherhood and Healthy Families and Global Poverty and Development. For copies of these reports, please contact Mara Vanderslice at mvanderslice@who.eop.gov.

Public Comment: There will be an opportunity for public comment at the end of the conference calls.

Exceptional Circumstances Justifying Late Notice: This notice may be published in the Federal Register less than 15 calendar days prior, due to exceptional circumstances. The Federal Government was closed due to inclement weather and therefore publication of this notice could be delayed.

Dated: February 8, 2010.
Mara L. Vanderslice,
Special Assistant.

[FR Doc. 2010-3003 Filed 2-10-10; 8:45 am]

BILLING CODE 4154-07-P